DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of April, 2000.

In order for an affirmative determination to be made and a certification of eligibility to apply for worker adjustment assistance to be issued, each of the group eligibility requirements of Section 222 of the Act must be met.

(1) That a significant number or proportion of the workers in the workers' firm, or an appropriate subdivision, thereof, have become totally or partially separated;

(2) That sales or production, or both, of the firm or subdivision have decreased absolutely; and

(3) That increase of imports of articles like or directly competitive with articles produced by the firm or appropriate subdivision have contributed importantly to the separations, or threat thereof, and to the absolute decline in sales or production

Negative Determinations for Worker Adjustment Assistance

In each of the following cases the investigation revealed that criterion (3) has not been met. A survey of customers indicated that increased imports did not contribute importantly to worker separations at the firm.

TA-W-37,495; Wolverine Tube, Inc., Roxboro, NC

TA-W-37,397; Katz Lace Corp., New York, NY

TA-W-37,406; York Refrigeration, Waynesboro Div., Waynesboro, PA

TA-W-37,289; M. Glosser & Sons Scrap Yard, Johnstown, Pa

In the following cases, the investigation revealed that the criteria for eligibility have not been met for the reasons specified.

TA-W-37,506; Ingersoll-Rand Transportation Organization, Los Angeles, CA

TA-W-37,517; United States Sales Corp., San Fernando, CA

TA-W-37,390; Target Retail Store, Mt. Carmel, IL

TA-W-37,392; Alphabet, Inc., El Paso, TX

TA-W-37,474; Now Fabrics, Inc., New York, NY

TA-W-37,472; MCNIC Oil and Gas Co., Detroit, MI

TA-W-37,542; GPM, Bartlesville, OK

TA-W-37,435; Oshkosh B'Gosh, Inc., Oshkosh Distribution Center, Oshkosh, WI

TA-W-37,495;

The workers' firm does not produce an article as required for certification under Section 222 of the Trade Act of 1974.

TA-W-37,500; Ultra Building Systems, Inc., Hackensack, NJ

TA-W-37,490; Brechteen, Chesterfield, MI

TA-W-37,259; ASC (Automobile Specialist Convertible), Rancho Dominquez, CA

TA-W-37,481; Inland Refining, Woods Cross, UT

TA-W-37,402; Midas, Inc., Bedford Park, IL

Increased imports did not contribute importantly to worker separations at the firm.

TA-W-37,404; Border Apparel Laundry, Inc., El Paso, TX

The investigation revealed that criteria (1) and criteria (2) have not been met. A significant number or proportion of the workers did not become totally or partially separated from employment as required for certification. Sales or production did not decline during the relevant period as required for certification.

TA-W-37,459; Rohm and Haas Co., Philadelphia, PA

The investigation revealed that criteria (1) has not been met. A significant number or proportion of the workers did not become totally or partially separated from employment as required for certification.

Affirmative Determinations for Worker Adjustment Assistance

The following certifications have been issued; the date following the company name and location of each determination references the impact date for all workers of such determination.

TA-W-37,267; Haas Tailoring Co, Baltimore, MD: January 11, 1999.

TA-W-37,370; Lees Curtain Co., Inc., Mansfield, MO: February 1, 1999.

TA-W-37,391; Hewlett Packard, San Jose, CA: February 8, 1999.

TA-W-37,128; Nucor Corp., Nucor Fastener Div., Conway AR: November 12, 1998.

TA-W-37,430; Square D Co., Oshkosh, WI: February 17, 1999.

TA-W-37,381; United States Leather, Inc., Pfister & Vogel Leather, Milwaukee, WI: February 4, 1999.

TA-W-37,205; Belmont Garment Dyers, Formerly Reading Dyeing & Finishing, Inc., Reading, PA: December 12, 1998.

TA-W-37,377; Duro Finishing, Fall River, MA: February 9, 1999.

TA-W-37,443; Russell Corp., Jerzees Activewear, Geneva, AL: February 25, 1999.

TA-W-37,468 & A; Great American Knitting Mills, Inc., Pottstown, PA and Bally, PA: March 3, 1999.

TA-W-37,483; American Identify, Ocean Springs, MS: March 8, 1999.

TA-W-37,471; Huffy Bicycle Co., Southhaven, MS: February 24, 1999.

TA-W-37,538; North American Heaters, Franklin, TN: March 16, 1999.

TA-W-37,551; PDH Corp., d/b/a Omnigrid, Inc., Burlington, WA: March 24, 1999.

TA-W-37,512; London International Group LLC, Centre Plant, Dothan, AL: January 10, 1999.

TA-W-37,470; Radionic's Inc., Salinas, CA: September 13, 1998.

TA-W-37,418; Baker Atlas, Prudhoe Bay, AK: February 15, 1999.

TA-W-37,414; Propper International Sales, Inc., Waverly, TN: February 11, 2000.

TA-W-37,555; Alrose Shoe Co, Div. of Ballet Makers, Inc., Exeter, NH: March 28, 1999.

TA-W-37,466; Rochester Button Co., S. Boston, VA: March 1, 1999.

TA-W-37,436; Alliance Labeling & Decorating, Inc., Allentown, PA: February 15, 1999.

TA-W-37,497; Russell Athletic Div. of Russell Corp., Ashland, AL: March 10, 1999.

TA-W-37,432; Globe Manufacturing Corp., Latex Operations, Fall River, MA: February 24, 1999.

TA-W-37,494; Border Apparel, Inc., El Paso, TX: February 17, 1999.

TA-W-37,458; House of Perfection, Inc., Williston Manufacturing Co., Williston, SC: March 3, 1999.

TA-W-37,441; Kobe Precision, Inc., Hayward, CA: February 23, 1999.

TA-W-37,469; Sherwood Market House, Alliance, OH: March 6, 1999.

TA-W-37,424; Pincus Brothers-Maxwell, Philadelphia, PA: April 13, 1999.

TA-W-37,407; Briggs Manufacturing Co., Robinson, IL: February 24, 1999.

TA-W-37,528; Trinity Fitting & Flange Group, Inc., Ackerman, MS: March 11, 1999.

TA-W-37,540; Kimberly Clark Corp., Durafab, Inc., Cleburne, TX: March 28, 1999.

TA-W-37,428; Valley Cities Apparel, Sayre, PA: February 23, 1999.

TA-W-37,457 & A; Best Manufacturing Co., Johnson City Div., Johnson City, TN and Moss Point, MS: March 6, 1999.

TA-W-37,536; Telema Electronics, Inc., St. James, MO: March 21, 1999.

TA-W-37,431; Magnecomp Corp., Temecula, CA: May 1, 2000.

TA-W-37,507; American Identity, Canton, SD: March 8, 1999.

TA-W-37,479; Rocky Shoes & Boots, Inc., Nelsonville, OH: March 7, 1999.

TA-W-37,421; Whistler Automation Products, Novi, MI: October 12,, 1998.

TA-W-37,355; Medtronic Perfusion Systems, Minneapolis, MN: January 28, 1999.

TA-W-37,525; Old Deerfield Fabrics, Inc., Cedar Grove, NJ: March 8, 1999.

TA-W-37,480 & A, B, C; Chevron Information Technology Co (CITC), A Div. of Chevron USA, Inc., Headquartered in San Ramon, CA, Concord, CA, Evanston, WY and all locations in the States of TX and LA: March 10, 1999.

TA-W-37,450; Xomox Corp., Cincinnati, OH: March 3, 1999.

TA-W-37,504; MTF, Inc., West Lawn, PA: March 15, 1999.

TA-W-37,526; Milco Industries, Inc., Bloomsburg, PA: March 21, 1999.

TA-W-37,445; Lenox, Inc., Smithfield, RI: February 28, 1999.

TA-W-37,453; Jantzen, Inc., Seneca, SC: February 28, 1999.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of April, 2000.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely;

(3) That imports from Mexico or Canada of articles like or directly competitive with articles produced by such firm or subdivision have increased, and that the increases in ports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-03809; Fedco Automotive Components Co., Inc., Div. of Stant Corp., buffalo, NY

NAFTA-TAA-03692: Western Moulding Co., Snowflake, AZ

NAFTA-TAA-03814; Chevron Products Co., El Paso, TX

NAFTA-TAA-03723; Lees Curtain Co., Inc., Mansfield, MO

NAFTA-TAA-03781; Rochester Button Co., S. Boston, VA

NAFTA-TAA-03782; LaCrosse Footwear, Inc., La Crosse, WI

NAFTA-TAA-03713; Wolverine Tube, Inc., Roxboro, NC

NAFTA-TAA-03795; Rohm and Haas Co., Philadelphia, PA

NAFTA-TAA-03747; Briggs Manufacturing Co., Robinson, IL

NAFTA-TAA-03766; Valley Cities Apparel, Sayre, PA

NAFTA-TAA-03751; York Refrigeration, Waynesboro Div., Waynesboro, PA

NAFTA-TAA-03748; Circular Banding Co., In., Athens, GA

NAFTA-TAA-03813; C.P. Lighting, Inc., Pottsville, PA

The investigation revealed that the criteria for eligibility have not been met for the reasons specified.

NAFTA-TAA-03745; Alphabet, Inc., El Paso, TX

NAFTA-TAA-03854; Chevron Products Co., Roosevelt, UT

NAFTA-TAA-03817; United States Saes Corp., San Fernando, CA

NAFTA-TAA-03754; Oshkosh B'Gosh, Inc., Oshkosh Distribution Center, Oshkosh, WI

The investigation revealed that workers of the subject firm did not produce an article within the meaning of Section 250(a) of the Trade Act, as amended.

NAFTA-TAA-03743; Border Apparel Laundry, Inc., El Paso, TX

The investigation revealed that criteria (1) and criteria (2) have not been met. A significant number or proportion of the workers in such workers' firm or an appropriate subdivision (including workers in any agricultural firm or appropriate subdivision thereof) have become totally or partially separated from employment. Sales or production did not decline during the relevant period as required for certification.

Affirmative Determinations NAFTA-TAA

NAFTA-TAA-03764; AMETEK, United States Gauge Div., Bartow, FL: February 21, 1999.

NAFTA-TAA-03847; Taylor Precision Products, L.P., Fletcher, NC: June 9, 2000.

NAFTA-TAA-03808; Woodgrain Millwork, Inc., Lakeview Operation, Lakeview, OR: March 15, 1999.

NAFTA-TAA-03807; Toshiba Display Devices, Inc., Horseheads, NY: March 9, 1999.

NAFTA-TAA-03684; Allied Signal, Honeywell, Inc., Torrance, CA: January 13, 1999.

NAFTA-TAA-03632; Belmont Garment Dyers, Formerly Beading Dyeing & Finishing, Inc., Reading, PA: December 9, 1998.

NAFTA-TAA-03772; Russell Corp., Jerzees Activewear, Geneva, AL: February 25, 1999.

NAFTA-TAA-03736; Square D Company, Oshkosh, WI: February 17, 1999.

NAFTA-TAA-03662; Alliance Labeling and Decorating, Inc., Allentown, PA: February 15, 1999.

NAFTA-TAA-03776; Pincus Brothers-Maxwell, Philadelphia, PA: March 2, 1999.

NAFTA-TAA-03791; House of Perfection, Inc., Williston Manufacturing Co., Williston, SC: March 8, 1999.

NAFTA-TAA-03727 A, B, C, D, & E; the Johnstown Knitting Mill Co. including the following divisions: Glenfield Div., Glenfield, NY: Montgomery St. Div., Johnstown, NY; Comrie Ave. Div., Johnstown, NY; Fort Plain Div., Fort Plain, NY; New York City Div., NY; and the Diana Knitting Corp., Johnstown, NY: February 3, 1999.

NAFTA-TAA-03826; Talema Electronics, Inc., St. James, MO: March 21, 1999.

NAFTA-TAA-03816; North American Heaters, Franklin, TN: March 16, 1999.

NAFTA-TAA-03815; Russell Athletic Div. of Russel Corp., Ashland, AL: March 10, 1999.

NAFTA-TAA-03792 & A; Great American Knitting Mills, Inc., Pottstown, PA and Bally, PA: March 6, 1999.

NAFTA-TAA-03798; Kimberly-Clark Corp., Durafab, Inc., Cleburne, TX: March 3, 1999.

NAFTA-TAA-03804; Border Apparel, Inc., El Paso, TX: February 17, 1999.

NAFTA-TAA-03712; Medtronic Perfusion Systems, Minneapolis, MN: January 28, 1999.

NAFTA-TAA-03770; TI Group Automotive Systems, Maquoketa, IA: February 15, 1999.

NAFTA-TAA-03806; MTF, Inc., West Lawn, PA: March 15, 1999.

NAFTA-TAA-03763; Ithaca Industries, Inc., Glennville, GA: February 28, 1999.

NAFTA-TAA-03700; Standard Candy Co., Hard Candy Div., Nashville, TN: January 31, 1999.

NAFTA-TAA-03841; Elisie Undergarment Corp., Hialeah, FL: April 7, 1999.

NAFTA-TAA-03824; Mattel Operations, Inc., a Div. of Mattel, Beaverton, OR: March 29, 1999.

I hereby certify that the aforementioned determinations were issued during the month of April, 2000. Copies of these determinations are available for inspection in Room C-4318, U.S. Department of Labor, 200 Constitution Avenue, NW, Washington, DC 20210 during normal business hours or will be mailed to persons who write to the above address.

Dated: May 2, 2000.
Grant D. Beale,
Program Manager, Division of Trade Adjustment Assistance.

[FR Doc. 00-11825 Filed 5-10-00; 8:45 am]

BILLING CODE 4510-30-M